DEPARTMENT OF HEALTH AND HUMAN SERVICES

Centers for Disease Control and Prevention

[60 Day-07-06AP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Aerosol Generation by Cough—NEW—The National Institute for Occupational Safety and Health (NIOSH), Centers for Disease Control and Prevention (CDC).

Background and Brief Description

The Federal Occupational Safety and Health Act of 1970, section 501, enables NIOSH to carry out research relevant to the health and safety of workers. NIOSH is conducting a two-year study of airborne clouds of particles or droplets called “aerosols”. Some diseases like influenza and Severe Acute Respiratory Syndrome (SARS) can be spread when people produce infectious aerosols by coughing or sneezing. Aerosol transmission of infectious diseases is especially important to health-care workers and emergency responders, who face a much greater risk of exposure to these hazards than does the general public. Cough-generated aerosols are of particular concern because coughing is one of the most common symptoms of respiratory infections. However, substantial gaps exist in our understanding about the generation of aerosols during coughing. This lack of information hampers the ability of health scientists to model and predict the generation of infectious aerosols by coughing and to understand whether or not cough-generated aerosols are likely to be an important means of transmission of particular diseases.

The purpose of this study is to gain a better understanding of the production of aerosols by coughing. The results of this research will give scientists and health professionals greater insight into the airborne transmission of disease and allow them to better assess the potential effectiveness of preventive measures.

The first part of this study will measure the quantity and size distribution of aerosol produced during human coughs. To accomplish this, volunteers will cough into a spirometer, which is a commonly used piston-like medical device that measures the volume of air exhaled by a patient. After the volunteer coughs into the spirometer, the air in the spirometer will be drawn into a commercial aerosol measurement device. These experiments will also provide information on how much cough aerosols vary over time for individuals and how much aerosol generation varies between individuals.

The second part of this study will determine how effectively surgical masks and N95 respirators block cough-generated aerosols. N95 respirators are dust masks that are certified to filter out at least 95% of airborne material during normal breathing. N95 respirators are known to be more effective than surgical masks at filtering out airborne particles during inhalation, but it is not known whether masks or respirators are more effective at blocking cough-generated aerosols. For this work, masks and respirators will be placed in a special holder with a disposable mouthpiece, and human subjects will cough into the mouthpiece and through the mask. The aerosol produced by each subject will be analyzed before and after flowing through the mask. These experiments will determine how effective each mask or respirator is at preventing the release of cough-generated aerosols.

Volunteers from part 1 may also participate in part 2 if they wish. There will be no costs to study participants other than their time.

Estimate of Annualized Burden Hours
Respondents | Number of respondents | Number of responses per respondent | Average burden per response (in hours) | Total burden (in hours)
Part 1 participants | 20 | 5 | 1.5 | 150
Part 2 participants | 120 | 1 | 1.5 | 180
Total |  |  |  | 330

Dated: March 29, 2007.
Joan F. Karr,
Acting Reports Clearance Officer, Centers for Disease Control and Prevention.

[FR Doc. E7-6344 Filed 4-4-07; 8:45 am]

BILLING CODE 4163-18-P